Proclamation 7490 of October 24, 2001

United Nations Day, 2001

By the President of the United States of America

A Proclamation

On June 26, 1945, representatives from 50 countries signed the charter creating the United Nations (U.N.), which inaugurated a new era of unprecedented international cooperation. The world had then just emerged victorious against the threat of global tyranny, and these representatives resolved to preserve peace through international cooperation and collective security. Officially coming into existence on October 24, 1945, the U.N. became the central organization charged with carrying out this mission. Since then, it has worked to maintain world peace and security, to develop friendly relations among nations, to cooperate in solving international problems, and to promote respect for human rights.

Today, 189 countries belong to the United Nations. The organization's mission remains as urgent as ever, particularly as our world confronts new challenges in the 21st century. The recent terrorist attacks on the United States not only threatened Americans, they also threatened civilized people everywhere who believe in freedom and peace. These tragic events remind us all of the vitally important unified efforts necessary to building international security and to guaranteeing a more peaceful world for us and for our children.

Americans are a generous and compassionate people, willing to do all we can to help alleviate poverty and suffering around the world. These efforts include close cooperative ventures with the United Nations organizations through its many humanitarian programs. As our country observes United Nations Day, 2001, we pause to reflect on the noble history of the U.N. and to praise its many contributions toward providing a better quality of life for people around the globe. We also celebrate the U.N.'s commitment to promoting human rights, protecting the environment, fighting disease, fostering development, and reducing poverty. By reaffirming our desire to advance these goals, America looks forward to continued progress in addressing the challenges that face humanity and to achieving a brighter future for the world.

NOW, THEREFORE, I, GEORGE W. BUSH, President of the United States of America, by virtue of the authority vested in me by the Constitution and laws of the United States, do hereby proclaim October 24, 2001, as United Nations Day. I call upon the people of the United States to observe this day with appropriate programs and activities.

IN WITNESS WHEREOF, I have hereunto set my hand this twenty-fourth day of October, in the year of our Lord two thousand one, and of the Independence of the United States of America the two hundred and twenty-sixth.

B

[FR Doc. 01-27445

Filed 10-29-01; 11:38 am]

Billing code 3195-01-P